DEPARTMENT OF THE TREASURY

United States Mint

Notification of Citizens Coinage Advisory Committee; Public Meeting

SUMMARY: Pursuant to United States Code, Title 31, section 5135(b)(8)(C), the United States Mint announces the Citizens Coinage Advisory Committee (CCAC) public meeting scheduled for June 16-17, 2015.

Date: June 16-17, 2015.

Time:

June 16, 9:30 a.m. to 4:00 p.m.

June 17, 9:30 a.m. to 11:30 a.m.

Location: Conference Room A, United States Mint, 801 9th Street NW., Washington, DC 20220.

Subject: Review and consideration of candidate designs for the National Park Service 100th Anniversary Commemorative Coin Program, the Foot Soldiers of the 1965 Selma to Montgomery Voting Rights March Congressional Gold Medal, the 65th Infantry Regiment (Borinqueneers) Congressional Gold Medal, and the First Spouse Gold Coin honoring Nancy Reagan.

Interested persons should call the CCAC HOTLINE at (202) 354-7502 for the latest update on meeting time and room location.

In accordance with 31 U.S.C. 5135, the CCAC:

Advises the Secretary of the Treasury on any theme or design proposals relating to circulating coinage, bullion coinage, Congressional Gold Medals, and national and other medals.

Advises the Secretary of the Treasury with regard to the events, persons, or places to be commemorated by the issuance of commemorative coins in each of the five calendar years succeeding the year in which a commemorative coin designation is made.

Makes recommendations with respect to the mintage level for any commemorative coin recommended.

FOR FURTHER INFORMATION CONTACT: William Norton, United States Mint Liaison to the CCAC; 801 9th Street NW., Washington, DC 20220; or call 202-354-7200.

Any member of the public interested in submitting matters for the CCAC's consideration is invited to submit them by fax to the following number: 202-756-6525.

Authority: 31 U.S.C. 5135(b)(8)(C).

Dated: May 11, 2015.
Beverly Ortega Babers,
Chief Administrative Officer, United States Mint.

[FR Doc. 2015-12000 Filed 5-14-15; 8:45 am]

BILLING CODE P